ENVIRONMENTAL PROTECTION AGENCY

40 CFR Part 52

[EPA-R04-OAR-2021-0406; FRL-10991-03-R4]

Air Plan Approval; North Carolina; Bulk Gasoline Plants, Terminals Vapor Recovery Systems; Correction

AGENCY: Environmental Protection Agency (EPA).

ACTION: Final rule; correction.

SUMMARY: The Environmental Protection Agency (EPA) published a final rule in the Federal Register on August 9, 2023, titled “Air Plan Approval; North Carolina; Bulk Gasoline Plants, Terminals Vapor Recovery Systems.” The document approved revisions to the North Carolina State Implementation Plan (SIP) concerning changes to the North Carolina Department of Environmental Quality's air regulations regarding bulk gasoline terminals and plants, gasoline cargo tanks and vapor collection systems, and leak tightness and vapor leak requirements. EPA approved those changes pursuant to the Clean Air Act. An error in the instructions amending the Code of Federal Regulations (CFR) in the document is identified and corrected in this action. This correction does not change any final action taken by EPA in the August 9, 2023, final rule.

DATES: Effective September 8, 2023.

ADDRESSES: EPA has established a docket for this action under Docket Identification No. EPA-R04-OAR-2021-0406. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, U.S. Environmental Protection Agency, Region 4, 61 Forsyth Street SW, Atlanta, Georgia 30303-8960. Ms. LaRocca can be reached via electronic mail at larocca.sarah@epa.gov or via telephone at (404) 562-8994.

SUPPLEMENTARY INFORMATION: EPA published a final rule in the Federal Register on August 9, 2023 (88 FR 53795), titled “Air Plan Approval; North Carolina; Bulk Gasoline Plants, Terminals Vapor Recovery Systems.” The final rule approved changes to the following regulations in North Carolina's SIP: 15A North Carolina Administrative Code, Subchapter 02D, Rules .0926, Bulk Gasoline Plants; ¹ .0927, Bulk Gasoline Terminals; ² .0932, Gasoline Cargo Tanks and Vapor Collection Systems; and .2615, Determination of Leak Tightness and Vapor Leaks. However, the Federal Register document contained an error in the instructions regarding amendments to the table titled “EPA-Approved North Carolina Regulations” found at 40 CFR 52.1770(c)(1). See 88 FR 53797. In the instructions, EPA inadvertently referred to the table entries to be amended as “Section .0926,” “Section .0927,” “Section .0932,” and “Section .2615” instead of “Rule .0926,” “Rule .0927,” “Rule .0932,” and “Rule .2615” and therefore inadvertently sought to replace, rather than revise, those entries. EPA is now correcting that error.

¹ In Paragraph (n) of Rule .0926, North Carolina's Rule references Rule 02D .0960 which is not in the SIP. The Division of Air Quality (DAQ) withdrew that reference in Paragraph (n) from the April 13, 2021, SIP revision.

² Similar to the changes in Rule 02D .0926(n), Rule 02D .0927(k) also references Rule 02D .0960 which is not in the SIP. DAQ withdrew that reference in Paragraph (k) from the April 13, 2021, SIP revision.

Correction

§ 52.1770 [Corrected]

In FR Doc. 2023-16564, published at 88 FR 53795 in the issue of August 9, 2023, on page 53797, in the third column, amendatory instruction 2 for § 52.1770 is corrected to reads as follows:

2. In § 52.1770, amend the table in paragraph (c)(1) by revising the entries “Rule .0926,” “Rule .0927,” “Rule .0932,” and “Rule .2615” to read as follows:

Dated: August 25, 2023.
Carol Kemker,
Acting Regional Administrator, Region 4.

[FR Doc. 2023-18709 Filed 8-30-23; 8:45 am]

BILLING CODE 6560-50-P